SECURITIES AND EXCHANGE COMMISSION

Sunshine Act Meeting

Notice is hereby given, pursuant to the provisions of the Government in the Sunshine Act, Public Law 94-409, that the Securities and Exchange Commission will hold an Open Meeting on July 25, 2014, at 10 a.m., in the Auditorium (L-002) at the Commission's headquarters building, to hear oral argument in an appeal by the Division of Enforcement from an initial decision of an administrative law judge.

On October 28, 2011, the law judge dismissed proceedings brought by the Division against Respondents John P. Flannery and James D. Hopkins, former employees of State Street Bank and Trust Company. The law judge held that Respondents did not violate the antifraud provisions of Section 17(a) of the Securities Act of 1933, Section 10(b) of the Securities Exchange Act of 1934, and Exchange Act Rule 10b-5 because she found that, among other things, they did not make misleading statements regarding the portfolio holdings of an unregistered collective trust fund, the Limited Duration Bond Fund (“LDBF”), in communications with LDBF investors.

The issues likely to be considered at oral argument include whether Respondents violated the antifraud provisions as alleged and, if so, the extent to which they should be sanctioned for those violations.

For further information, please contact the Office of the Secretary at (202) 551-5400.

Dated: July 17, 2014.
Kevin M. O'Neill,
Deputy Secretary.

[FR Doc. 2014-17188 Filed 7-17-14; 11:15 am]

BILLING CODE 8011-01-P